DEPARTMENT OF HEALTH AND HUMAN SERVICES

Centers for Disease Control and Prevention

[60Day-09-09AK]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Audience Analysis for Environmental Health Issues,—New—National Center for Environmental Health/Agency for Toxic Substances and Disease Registry (NCEH/ATSDR), Centers for Disease Control and Prevention (CDC).

Background and Brief Description

The health effects associated with climate change include injuries and fatalities related to severe weather events and heat waves, infectious diseases related to changes in vector biology, water and food contamination, and respiratory illness due to increased allergen production. Despite these potentially devastating public health consequences, few in the general public connect climate change with health effects. In general, the majority of Americans associate climate change with nonhuman impacts and environmental problems rather than health effects. Most therefore focus their concern on the connection between climate change and plant and animal extinction rather than the impact on human health. Thus, it is not surprising that few in the general public are well prepared to deal with climate change health effects. The Centers for Disease Control and Prevention (CDC) is interested in developing communication materials to increase the public's awareness, knowledge and prepare for the potential health effects associated with climate change. To this end, focus groups will be conducted with members of a local California community to understand motivations and factors influencing target audience's decision process. There will also be an emphasis on the health effects, framing devices, and channels that might be most effective for disseminating public health messages and having them motivate the intended audiences. With that in hand it will be possible to identify the most valuable information and optimal strategies for communicating with target audiences.

Focus groups will be conducted with the residents of Santa Rosa, California. During phase one, three exploratory focus groups will be conducted to develop messaging strategies. Results from the exploratory focus groups will be used in the development of preliminary messaging strategies and draft materials. This material will be tested with the target audience during the second phase of research. The second phase will include three materials testing focus groups to determine which materials and messages are most attractive and compelling in terms of educating the public about health effects and promoting preparedness behaviors. Participants will be recruited via standard focus group recruitment methods. Most will come from an existing database (or list) of potential participants maintained by the focus group facility or recruited through local newspapers.

There is no cost to respondents.

Estimated Annualized Burden Hours
Respondents | No. of respondents | No. of responses per respondent | Average burden per response (in hours) | Total burden (in hours)
Recruitment screener | 108 | 1 | 5/60 | 9
Exploratory Focus Groups | 27 | 1 | 2 | 54
Materials Testing Focus Groups | 27 | 1 | 2 | 54
Total | 162 |  |  | 117

Date: December 29, 2009.
Marilyn S. Radke,
Reports Clearance Officer, Centers for Disease Control and Prevention.

[FR Doc. E9-112 Filed 1-7-09; 8:45 am]

BILLING CODE 4163-18-P